DEPARTMENT OF THE TREASURY

Internal Revenue Service

Open Meeting of Citizen Advocacy Panel, Midwest District

AGENCY: Internal Revenue Service (IRS), Treasury

ACTION: Notice.

SUMMARY: A meeting of the Midwest Citizen Advocacy Panel will be held in Milwaukee, Wisconsin.

DATES: The meeting will be held Thursday, January 18, 2001, and Friday, January 19, 2001.

FOR FURTHER INFORMATION CONTACT: Sandra McQuin at 1-888-912-1227, or 414-297-1604.

SUPPLEMENTARY INFORMATION: Notice is hereby given pursuant to Section 10(a)(2) of the Federal Advisory Committee Act, 5 U.S.C. App. (1988) that an open meeting of the Citizen Advocacy Panel (CAP) will be held Thursday, January 18, 2001, from 9 a.m. to 4 p.m. and Friday, January 19, 2001, from 8 a.m. to noon at the Howard Johnson at 176 West Wisconsin Avenue, Milwaukee, WI 53203. The Citizen Advocacy Panel is soliciting public comment, ideas, and suggestions on improving customer service at the Internal Revenue Service. Written comments can be submitted to the panel by fax to (414) 297-1623, or by mail to Citizen Advocacy Panel, Mail Stop 1006 MIL, 310 West Wisconsin Avenue, Milwaukee, WI 53203-2221.

The Agenda will include the following: Reports by the CAP sub-groups, presentation of taxpayer issues by individual members, and discussion of issues.

Note: Last minute changes to the agenda are possible and could prevent effective advance notice.

Dated: December 12, 2000.
M. Cathy VanHorn,
Director, Citizen Advocacy Panel, Communication & Liaison.

[FR Doc. 00-32484 Filed 12-20-00; 8:45 am]

BILLING CODE 4830-01-P